DEPARTMENT OF JUSTICE

Notice of Lodging of Proposed Consent Decree Under Cercla

On December 22, 2014, the Department of Justice lodged a proposed consent decree between the United States and Robert G. Schory, III with the United States District Court for the Western District of North Carolina, Charlotte Division, in a case entitled United States v. Boulos Family Properties, LLC, et al, No. 2:14-cv-059.

The proposed consent decree resolves claims for response costs under Section 107 of the Comprehensive Environmental Response, Compensation, and Liability Act of 1980, as amended, (“CERCLA”), 42 U.S.C. 9607, against Robert G. Schory, III, in connection with the National Petroleum Packers Site, a former glycol reprocessing facility in Stallings, North Carolina. Under the proposed consent decree, Mr. Schory will pay $1,500 in exchange for a covenant not to sue for the Site from the United States, conditioned on the accuracy of certain representations he made about his financial condition.

The publication of this notice opens a period for public comment on the consent decree. Comments should be addressed to the Assistant Attorney General, Environment and Natural Resources Division, and should refer to United States v. Boulos Family Properties, LLC, et al, DJ. Ref. No. # 90-11-3-10947. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ-ENRD, P.O. Box 7611, Washington, DC 20044-7611.

Please enclose a check or money order for $6.00 (25 cents per page reproduction cost) payable to the United States Treasury.

Henry S. Friedman,
Assistant Section Chief, Environmental Enforcement Section, Environment and Natural Resources Division.

[FR Doc. 2014-30629 Filed 12-30-14; 8:45 am]

BILLING CODE 4410-15-P